DEPARTMENT OF ENERGY

Federal Energy Regulatory Commission

Combined Notice of Filings #2

Take notice that the Commission received the following electric rate filings:

Docket Numbers: ER18-2364-000.

Applicants: ISO New England Inc.

Description: Compliance filing: ISO-NE Filing to Establish a Fuel Security Reliability Standard; EL18-182-000 to be effective 10/30/2018.

Filed Date: 8/31/18.

Accession Number: 20180831-5137.

Comments Due: 5 p.m. ET 9/21/18.

Docket Numbers: ER18-2365-000.

Applicants: NorthWestern Corporation.

Description: § 205(d) Rate Filing: SA 697 4th Revised—NITSA with the City of Great Falls to be effective 11/1/2018.

Filed Date: 8/31/18.

Accession Number: 20180831-5148.

Comments Due: 5 p.m. ET 9/21/18.

Docket Numbers: ER18-2366-000.

Applicants: California Independent System Operator Corporation.

Description: § 205(d) Rate Filing: 2018-08-31 Reliability Coordinator Services Amendment to be effective11/15/2018.

Filed Date: 8/31/18.

Accession Number: 20180831-5165.

Comments Due: 5 p.m. ET 9/21/18.

Docket Numbers: ER18-2367-000.

Applicants: Duke Energy Progress, LLC, Duke Energy Carolinas, LLC.

Description: § 205(d) Rate Filing: DEC-DEP Revisions to Joint OATT Formula Transmission Rates (M&S) to be effective 11/1/2018.

Filed Date: 8/31/18.

Accession Number: 20180831-5179.

Comments Due: 5 p.m. ET 9/21/18.

Docket Numbers: ER18-2368-000.

Applicants: Duke Energy Florida, LLC.

Description: § 205(d) Rate Filing: DEF Revisions to Joint OATT Formula Transmission Rates (M&S and Storm Damage) to be effective 11/1/2018.

Filed Date: 8/31/18.

Accession Number: 20180831-5181.

Comments Due: 5 p.m. ET 9/21/18.

Docket Numbers: ER18-2369-000.

Applicants: California Independent System Operator Corporation.

Description: § 205(d) Rate Filing: 2018-08-31 Interim Reliability Must-Run Agreement to be effective 9/1/2018.

Filed Date: 8/31/18.

Accession Number: 20180831-5189.

Comments Due: 5 p.m. ET 9/21/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2018.
Nathaniel J. Davis, Sr.,
Deputy Secretary.

[FR Doc. 2018-19409 Filed 9-6-18; 8:45 am]

BILLING CODE 6717-01-P